DEPARTMENT OF COMMERCE

International Trade Administration

[A-570-964]

Seamless Refined Copper Pipe and Tube From the People's Republic of China: Final Results and Partial Revocation of 2010/11 Antidumping Duty Administrative Review

AGENCY: Import Administration, International Trade Administration, Department of Commerce.

SUMMARY: On August 7, 2012, the Department of Commerce (“Department”) published the preliminary results of the administrative review of the antidumping duty order on seamless refined copper pipe and tube (“copper pipe and tube”) from the People's Republic of China (“PRC”). The period of review (“POR”) is November 22, 2010 through October 31, 2011. Based on our analysis of the comments received, we have made no changes to the margin calculations for these final results. We continue to find that certain exporters have sold subject merchandise at less than normal value during the POR.

DATES: Effective Date: June 12, 2013.

FOR FURTHER INFORMATION CONTACT: Thomas Martin or Robert Bolling, AD/CVD Operations, Office 4, Import Administration, International Trade Administration, U.S. Department of Commerce, 14th Street and Constitution Avenue NW., Washington, DC 20230; telephone: (202) 482-3936, and (202) 482-3434, respectively.

SUPPLEMENTARY INFORMATION:

Background

On August 7, 2012, the Department published Seamless Refined Copper Pipe and Tube From the People's Republic of China: Preliminary Results of the First Antidumping Duty Administrative Review, and Intent To Rescind in Part, 77 FR 47030 (August 7, 2012) (“Preliminary Results”).

On August 21, 2012, Cerro Flow Products, LLC, Wieland Copper Products, LLC, Mueller Copper Tube Products, Inc., and Mueller Copper Tube Company, Inc. (collectively, “Petitioners”) submitted additional surrogate value information for valuing factors of production. On August 27, 2012, Golden Dragon Precise Copper Tube Group, Inc. (“Golden Dragon”) also submitted additional surrogate value information for valuing factors of production. On August 27, 2012, the Department extended the deadline for filing comments on the Preliminary Results until September 13, 2012, and until September 18, 2012, for rebuttal comments. On September 5, 2012, Luvata Alltop (Zhongshan) Ltd. and Luvata Tube (Zhongshan) Ltd., (collectively “Luvata”) filed comments on the Preliminary Results. The separate rate respondent Hong Kong Hailiang Metal Trading Limited, Zhejiang Hailiang Co., Ltd., and Shanghai Hailiang Copper Co., Ltd. (collectively “Hailiang”), and Petitioners submitted case briefs with the Department on September 13, 2012. On September 17, 2012, the Department extended the deadline for rebuttal briefs until September 21, 2012. On September 21, 2012, Petitioners and Golden Dragon filed rebuttal briefs.

On April 23, 2013, the Department requested additional factual documentation from Golden Dragon,¹ which was submitted on April 24, 2013. On May 2, 2013, in response to an opportunity to comment from the Department, Petitioners and Golden Dragon submitted comments in response to Golden Dragon's April 24, 2013, factual submission. On May 6, 2013, Petitioners and Golden Dragon submitted rebuttal comments.

¹ See Memorandum from Christian Marsh to the File, “Telephone Conversation with Counsel for Golden Dragon Precise Copper Tube Group, Inc. et al.,” dated April 23, 2013.

The Department's original deadline for this final determination was December 5, 2012. As explained in the memorandum from the Assistant Secretary for Import Administration, the Department exercised its discretion to toll deadlines for the duration of the closure of the Federal Government from October 29, through October 30, 2012. Thus, the final results were tolled by two days until December 7, 2012.² On November 29, 2012, the Department extended the final results 60 days until February 5, 2013.³ On January 24, 2013, the Department extended the final results 90 days until May 6, 2013.⁴ On April 30, 2013, the Department extended the final results 30 days until June 5, 2013.⁵

² See Memorandum to the Record from Paul Piquado, AS for Import Administration, regarding “Tolling of Administrative Deadlines As a Result of the Government Closure During the Recent Hurricane,” dated October 31, 2012.

³ See Memorandum to Christian Marsh regarding “Seamless Refined Copper Pipe and Tube from the People's Republic of China: Extension of Deadline for Final Results of Antidumping Duty Administrative Review,” dated November 29, 2012.

⁴ See Memorandum to Christian Marsh regarding “Seamless Refined Copper Pipe and Tube from the People's Republic of China: Extension of Deadline for Final Results of Antidumping Duty Administrative Review,” dated January 24, 2013.

⁵ See Memorandum to Christian Marsh regarding “Seamless Refined Copper Pipe and Tube from the People's Republic of China: Extension of Deadline for Final Results of Antidumping Duty Administrative Review,” dated April 30, 2013.

Scope of the Order

For the purpose of the order, the products covered are all seamless circular refined copper pipes and tubes.⁶ The products subject to the order are currently classifiable under subheadings 7411.10.1030 and 7411.10.1090 of the Harmonized Tariff Schedule of the United States (“HTSUS”). Products subject to the order may also enter under HTSUS subheadings 7407.10.1500, 7419.99.5050, 8415.90.8065, and 8415.90.8085. Although the HTSUS subheadings are provided for convenience and customs purposes, the written description of the scope of the order is dispositive.⁷

⁶ See Issues and Decision Memorandum.

⁷ For a complete description of the scope of the order, see Seamless Refined Copper Pipe and Tube From Mexico and the People's Republic of China: Antidumping Duty Orders and Amended Final Determination of Sales at Less Than Fair Value From Mexico, 75 FR 71070 (November 22, 2010).

Analysis of Comments Received

All issues raised in the case and rebuttal briefs by parties in this review are addressed in the Memorandum from Christian Marsh, Deputy Assistant Secretary for Antidumping and Countervailing Duty Operations, to Paul Piquado, Assistant Secretary for Import Administration, “Issues and Decision Memorandum for the Final Results of the Administrative Review of Seamless Refined Copper Pipe and Tube from the People's Republic of China; 2010-2011,” dated June 5, 2013 (“Issues and Decision Memorandum”), which is hereby adopted by this notice. A list of the issues which parties raised and to which we respond in the Issues and Decision Memorandum is attached to this notice as an Appendix. The Issues and Decision Memorandum, which is a public document, is on file electronically via Import Administration's Antidumping and Countervailing Duty Centralized Electronic Service System (“IA ACCESS”). IA ACCESS is available to registered users at http://iaaccess.trade.gov, and is available to all parties in the Central Records Unit, main Commerce building, Room 7046. In addition, a complete version of the Issues and Decision Memorandum is accessible on the Department's Web site at http://www.trade.gov/ia. The signed Issues and Decision Memorandum and electronic versions of the memorandum are identical in content.

Changes Since the Preliminary Results

There have been no changes since Preliminary Results.

Period of Review

The POR is November 22, 2010, through October 31, 2011.

Partial Rescission of Review

Petitioners timely requested an administrative review for Golden Dragon Holding (Hong Kong) International Co., Ltd., Hong Kong GD Trading Co., Ltd., Sinochem Ningbo Import & Export Co., Ltd., and Sinochem Ningbo Ltd., companies which do not have a separate rate, and then timely withdrew their requests for review of the above-mentioned companies.⁸ Because these companies have not established their eligibility for a separate rate, they would be considered part of the PRC-wide entity. In the Preliminary Results, we stated that we intended to rescind the administrative review with respect to these companies in the final results if the PRC-wide entity is not reviewed.⁹ Because the PRC-wide entity is not under review for the final results of this administrative review, we are rescinding the administrative review for the above-mentioned companies for which we received a timely withdrawal of the request for administrative review in accordance with 19 CFR 351.213(d)(1).

⁸ See Petitioners' letter entitled, “Seamless Refined Copper Pipe and Tube From the People's Republic of China: Withdrawal of Request for Antidumping Administrative Reviews,” dated February 6, 2012.

⁹ See Preliminary Results, 77 FR at 47031.

Petitioners also timely requested an administrative review, then timely withdrew their requests for the following companies that have previously established their eligibility for separate rate: Luvata Alltop (Zhongshan) Ltd., Luvata Tube (Zhongshan) Ltd., Ningbo Jintian Copper Tube Co., Ltd., Zhejiang Jiahe Pipes Inc., and Zhejiang Naile Copper Co., Ltd.¹⁰ Because the requests for administrative reviews for these companies were timely withdrawn, we are rescinding the administrative review for these companies in accordance with 19 CFR 351.213(d)(1).

¹⁰ See Petitioners' letter entitled, “Seamless Refined Copper Pipe and Tube From the People's Republic of China: Withdrawal of Request for Antidumping Administrative Reviews,” dated February 6, 2012. In the Preliminary Results, 77 FR at 47301, we inadvertently identified these companies as not having established their eligibility for a separate rate.

Final Results of the Review

We determine that the following weighted-average dumping margins exist for the POR:

Exporter | Margin (percentage)
Golden Dragon Precise Copper Tube Group, Inc | 0.00
Hong Kong Hailiang Metal Trading Limited, Zhejiang Hailiang Co., Ltd., and Shanghai Hailiang Copper Co., Ltd | 60.85

Disclosure

The Department intends to disclose calculations performed for these final results to the parties within five days of the date of the public announcement of the results of this review in accordance with 19 CFR 351.224(b).

Assessment Rates

Pursuant to section 751(a)(2)(A) of the Act and 19 CFR 351.212(b), the Department will determine, and U.S. Customs and Border Protection (“CBP”) shall assess, antidumping duties on all appropriate entries covered by this review. The Department intends to issue assessment instructions to CBP 15 days after the publication date of the final results of this review.

For each respondent whose weighted-average dumping margin in these final results is not zero or de minimis (i.e., less than 0.5 percent), the Department has calculated importer-specific assessment rates. Because we do not have entered values for all U.S. sales to a particular importer, we are calculating a per-unit assessment rate by aggregating the amount of dumping for all U.S. sales to that importer and dividing this amount by the total quantity sold to that importer.¹¹ Where an exporter's weighted-average dumping margin is zero or de minimis, or an importer-specific ad valorem rate is zero or de minimis, we will instruct CBP to liquidate appropriate entries without regard to antidumping duties. To determine whether an importer-specific, ad valorem assessment rates is de minimis, in accordance with the requirement set forth in 19 CFR 351.106(c)(2), we calculated importer-specific ad valorem rates as the amount of dumping for all U.S. sales to an importer divided by the estimated entered value of the same sales. We will instruct CBP to liquidate entries of subject merchandise exported by the PRC-wide entity at an ad valorem assessment rate equal to the weighted-average dumping margin assigned to the PRC-wide entity.

¹¹ See, e.g., Certain Cased Pencils From the People's Republic of China: Final Results of the Antidumping Duty Administrative Review, 76 FR 27988, 27989 (May 13, 2011).

The Department announced a refinement to its assessment practice in non-market economy cases.¹² Pursuant to this refinement in practice, for entries that were not reported in the U.S. sales databases submitted by companies individually examined during this review, the Department will instruct CBP to liquidate such entries at the rate for the PRC-wide entity. In addition, if the Department determines that an exporter under review had no shipments of the subject merchandise, any suspended entries that entered under that exporter's case number (i.e., at that exporter's rate) will be liquidated at the rate for the PRC-wide entity.

¹² See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review (except, if the rate is zero or de minimis, then the cash deposit rate will be zero for that exporter); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be equal to 60.85 percent, the rate for the PRC-wide entity; ¹³ and (4) for all non-PRC exporters of subject merchandise which have not received their own rate, the cash deposit rate will be the rate applicable to the PRC exporter(s) that supplied that non-PRC exporter. These deposit requirements, when imposed, shall remain in effect until further notice.

¹³ See Seamless Refined Copper Pipe and Tube From the People's Republic of China: Final Determination of Sales at Less Than Fair Value, 75 FR 60725, 60729 (October 1, 2010).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and terms of an APO is a violation which is subject to sanction.

The Department is issuing and publishing these final results of administrative review in accordance with sections 751(a)(1) and 777(i)(1) of the Act.

Dated: June 5, 2013.
Paul Piquado,
Assistant Secretary for Import Administration.

Appendix—Issues and Decision Memorandum

Comment 1: Whether the Department should rescind the administrative review with respect to Luvata

Comment 2: Whether Golden Dragon's U.S. sales listing is accurate

Comment 3: Whether the Department should make an adjustment to Golden Dragon's reported U.S. prices

Comment 4: Whether the Department should use the financial statement of Kobelco or Furukawa.

Comment 5: Whether the Department should use a different rate for Hailiang as a non-examined, separate rate respondent

[FR Doc. 2013-13965 Filed 6-11-13; 8:45 am]

BILLING CODE 3510-DS-P